DEPARTMENT OF HOMELAND SECURITY

Coast Guard

33 CFR Part 117

[CGD08-05-002]

Drawbridge Operation Regulations; Vermilion River, Flanders, LA

AGENCY: Coast Guard, DHS.

ACTION: Notice of temporary deviation from regulations.

SUMMARY: The Commander, Eighth Coast Guard District, has issued a temporary deviation from the regulation governing the operation of the SR 3073 Swing Bridge across the Vermilion River, mile 44.9, at Flanders, Lafayette Parish, Louisiana. This deviation allows the bridge to remain closed to navigation from 6 a.m. on Sunday, February 13, 2005 until 6 a.m. on Wednesday, March 16, 2005. The deviation is necessary to repair and replace the decking on the bridge.

DATES: This deviation is effective from 6 a.m. on Sunday, February 13, 2005 until 6 a.m. on Wednesday, March 16, 2005.

ADDRESSES: Materials referred to in this document are available for inspection or copying at the office of the Eighth Coast Guard District, Bridge Administration Branch, Hale Boggs Federal Building, Room 1313, 500 Poydras Street, New Orleans, Louisiana 70130-3310 between 7 a.m. and 3 p.m., Monday through Friday, except Federal holidays. The telephone number is (504) 589-2965. The Bridge Administration Branch of the Eighth Coast Guard District maintains the public docket for this temporary deviation.

FOR FURTHER INFORMATION CONTACT: David Frank, Bridge Administration Branch, telephone (504) 589-2965.

SUPPLEMENTARY INFORMATION: The Louisiana Department of Transportation and Development (LDOTD) has requested a temporary deviation in order to remove and replace the decking on the SR 3073 Swing Bridge across the Vermilion River, mile 44.9, at Flanders, Lafayette Parish, Louisiana. The repairs are necessary to maintain the bridge in proper working condition. This temporary deviation will allow the bridge to remain in the closed-to-navigation position from 6 a.m. on Sunday, February 13, 2005 until 6 a.m. on Wednesday, March 16, 2005.

The bridge has a vertical clearance of 13.28 feet above high water, elevation 8.2 feet MSL in the closed-to-navigation position and unlimited clearance in the open-to-navigation position. The bridge has only opened 15 times in the previous five years. There were no requests to open the bridge from any vessels in 2004. During the repairs, the bridge will not be able to be opened for navigation because the swing span will be out of balance. No alternate routes are available. Based upon the information provided by the bridge owner regarding the number of bridge openings, it has been determined that this closure will not have a significant effect on vessels which use this reach of the waterway.

In accordance with 33 CFR 117.35(c), this work will be performed with all due speed in order to return the bridge to normal operation as soon as possible. This deviation from the operating regulations is authorized under 33 CFR 117.35.

Dated: January 6, 2005.
Marcus Redford,
Bridge Administrator.

[FR Doc. 05-735 Filed 1-12-05; 8:45 am]

BILLING CODE 4910-15-P